DEPARTMENT OF TRANSPORTATION

Federal Aviation Administration

RTCA Special Committee 186/EUROCAE Working Group 51: Automatic Dependent Surveillance—Broadcast (ADS-B)

AGENCY: Federal Aviation Administration (FAA), DOT.

ACTION: Notice of RTCA Special Committee 186/EUROCAE Working Group 51 meeting.

SUMMARY: The FAA is issuing this notice to advise the public of a meeting of RTCA Special Committee 186/EUROCAE Working Group 51: Automatic Dependent Surveillance—Broadcast (ADS-B).

DATES: The meeting will be held September 23-27, 2002 starting at 9 a.m.

ADDRESSES: The meeting will be held at EUROCONTROL, Rue le la Fusee 96, Brussels, B-1130, Belgium.

FOR FURTHER INFORMATION CONTACT: (1) RTCA Secretariat, 1828 L Street, NW., Suite 805, Washington, DC 20036; telephone (202) 833-9339; fax (202) 833-9434; Web site http://www.rtca.org; (2) Mr. Robert Darby, (e-mail) bob.darby@eurocontrol.be, (Phone) (011) 32-2-729-3332.

SUPPLEMENTARY INFORMATION: Pursuant to section 10(a)(2) of the Federal Advisory Committee Act (Pub. L. 92-463, 5 U.S.C., appendix 2), notice is hereby given for a Special Committee 186/EUROCAE Working Group 51 meeting. The Plenary agenda will include:

• September 23-24:

• Opening Plenary Session (Welcome and Introductory Remarks, Review/Approval of Meeting Agenda, Review/Approval of Meeting Minutes)

• SC-186 Activity Reports:

• WG-1, Operations and Implementation

• WG-2, Traffic Information Service—Broadcast (TIS-B)

• WG-3, 1090 MHz Minimum Operational Performance Standard (MOPS)

• WG-4, Application Technical Requirements

• WG-5, Universal Access Transceiver (UAT) MOPS

• WG-6, ADS-B Minimum Aviation System Performance Standard (MASPS)

• EUROCAE WG-51 Activity Reports

• Discuss Joint RTCA/EUROCAE Work

• ASA MASPS Rev A and GSA MASPS Applications and work structure

• Package 1/RTCA correlation matrix

• ADS-B MASPS

• 1090 MOPS

• Closing Plenary Session (Review Action Items/Work Program, Date, Place and Time of Next Meeting, Adjourn)

Note: Specific working group sessions will meet as follows: (1) September 25: SC-186/WG-1, 2, 3 & 4 and WG-51/SG-3; (2) September 26: SC-186/WG-1, SC-186/WG-1, 3 & 4; (3) September 27: SC-186/WG-1 & 4, WG-51/SG-3.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 29, 2002.
Janice L. Peters,
FAA Special Assistant, RTCA Advisory Committee.

[FR Doc. 02-22625 Filed 9-4-02; 8:45 am]

BILLING CODE 4910-13-M